DEPARTMENT OF TRANSPORTATION

Federal Aviation Administration

RTCA, Inc.; Free Flight Steering Committee

Revised Agenda

The April 13 RTCA Free Flight Steering Committee Meeting announced in the Federal Register, 65 FR 16240 (Monday, March 27, 2000), third column, has been revised.

The revised agenda reads as follows: The agenda will include: (1) Welcome and Opening Remarks: (a) Recognize Departing Members of the Steering Committee; (b) Welcome Incoming Members. (2) Review Summary of the Previous Meeting; (3) Reports from FAA on: (c) Free Flight Phase 1 Baseline Data and Performance Assessments Update; (d) Controller-Pilot Data Link Communications (CPDLC) Update; (4) Satellite Navigation Users Group Report; (5) Report and Recommendations from the Free Flight Select Committee; (6) Other Business; (7) Date and Location of Next Meeting; (8) Closing Remarks.

Person wishing to obtain further information should contact RTCA at (202) 833-9339 (phone), (202) 833-9434 (fax), or dclarke@rtca.org (e-mail).

Issued in Washington, DC, on March 30, 2000.
Janice L. Peters,
Designated Official.

[FR Doc. 00-8381 Filed 4-4-00; 8:45 am]

BILLING CODE 4910-13-M